DEPARTMENT OF TRANSPORTATION

Office of the Secretary

Aviation Proceedings, Agreements Filed the Week Ending October 31, 2009

The following Agreements were filed with the Department of Transportation under the Sections 412 and 414 of the Federal Aviation Act, as amended (49 U.S.C. 1383 and 1384) and procedures governing proceedings to enforce these provisions. Answers may be filed within 21 days after the filing of the application.

Docket Number: DOT-OST-2009-0270.

Date Filed: October 26, 2009.

Parties: Members of the International Air Transport Association.

Subject: TC23/123 Middle East-South East Asia Expedited, Resolution 002am and Specified Fares Tables (Memo 0422). Intended effective date: 1 January 2010.

Docket Number: DOT-OST-2009-0271.

Date Filed: October 26, 2009.

Parties: Members of the International Air Transport Association.

Subject: TC23/123 Middle East-Japan, Korea Expedited, Resolutions and Specified Fares Tables (Memo 0424). Intended effective date: 1 December 2009.

Docket Number: DOT-OST-2009-0272.

Date Filed: October 26, 2009.

Parties: Members of the International Air Transport Association.

Subject: TC23/123 Africa-Japan, Korea Expedited Resolution 002aj and Specified Fares Tables (Memo 0418). Intended effective date: 1 December 2009.

Docket Number: DOT-OST-2009-0273.

Date Filed: October 26, 2009.

Parties: Members of the International Air Transport Association.

Subject: TC23/123 Africa-South East Asia Expedited Resolution 002ao (Memo 0421). Intended effective date: 1 December 2009.

Docket Number: DOT-OST-2009-0274.

Date Filed: October 26, 2009.

Parties: Members of the International Air Transport Association.

Subject: TC23/123 Africa-South East Asia Expedited, Resolution 002ap and Specified Fares Tables (Memo 0422). Intended effective date: 1 January 2010.

Docket Number: DOT-OST-2009-0275.

Date Filed: October 26, 2009.

Parties: Members of the International Air Transport Association.

Subject: TC23/123 Africa-Japan, Korea Expedited, Resolutions and Specified Fares Tables (Memo 0419). Intended effective date: 15 January 2010.

Renee V. Wright,
Program Manager, Docket Operations, Federal Register Liaison.

[FR Doc. E9-27782 Filed 11-18-09; 8:45 am]

BILLING CODE 4910-9X-P